FEDERAL COMMUNICATIONS COMMISSION

47 CFR Part 73

[DA 03-435; MB Docket No. 02-300, RM-10576; MB Docket No. 02-296, RM-10571; MB Docket No. 02-298, RM-10574; MB Docket No. 02-299, RM-10575; MB Docket No. 02-297, RM-10572; MB Docket No. 02-302, RM-10579]

Radio Broadcasting Services; Colorado City, O'Brien, Panhandle, Shamrock, Stamford, TX, and Taloga, OK

AGENCY: Federal Communications Commission.

ACTION: Final rule, correction.

SUMMARY: The Federal Communications Commission published in the Federal Register of March 6, 2003, a document allotting six FM channels to various communities in Oklahoma and Texas. The document number was inadvertently listed as DA 03-345 in lieu of DA 03-435. This document corrects the document number.

DATES: Effective on May 13, 2003.

FOR FURTHER INFORMATION CONTACT: Victoria M. McCauley, Media Bureau, (202) 418-2180.

SUPPLEMENTARY INFORMATION: The FCC published a document in the Federal Register of March 6, 2003, (68 FR 10665) allotting six FM channels to various communities in Oklahoma and Texas. In FR Doc. 03-5338, the document number was listed incorrectly. This document changes the document number to DA 03-435.

In rule FR Doc. 03-5338 published on March 6, 2003, (68 FR 10665) make the following correction. On page 10665, in the first column, line 4, correct the document number to DA 03-435.

Federal Communications Commission.
John A. Karousos,
Assistant Chief, Audio Division, Media Bureau.

[FR Doc. 03-11816 Filed 5-12-03; 8:45 am]

BILLING CODE 6712-01-P